DEPARTMENT OF TRANSPORTATION

Federal Highway Administration

Environmental Impact Statement; Barron and Polk Counties, WI

AGENCY: Federal Highway Administration (FHWA), DOT.

ACTION: Notice of intent to prepare and Environmental Impact Statement.

SUMMARY: The FHWA is issuing this notice to advise the public that an Environmental Impact Statement will be prepared for transportation improvements in the United States Highway (USH) 8 corridor between the junction of State Trunk Highway (STH) 35 north and USH 53, in Polk and Barron Counties, Wisconsin.

FOR FURTHER INFORMATION CONTACT: Mr. Peter M. Garcia, Field Operations Engineer, Federal Highway Administration, 567 D'Onofrio Drive, Madison, Wisconsin, 53719-2814; telephone: (608) 829-7513. You may also contact Ms. Carol Cutshall, Director, Bureau of Environmental, Wisconsin Department of Transportation, P.O. Box 7965, Madison, Wisconsin, 53707-7965; telephone: (608) 266-9626.

SUPPLEMENTARY INFORMATION:

Electronic Access

An electronic copy of this document may be downloaded by using a computer, modem and suitable communications software from the Government Printing Offices' Electronic Bulletin Board Service at (202) 512-1661. Internet users may reach the Federal Register home page at http://www.nara.gov/fedreg and the Government Printing Officers' database at: http://www.access.gpo.gov/nara.

Background

The FHWA, in cooperation with the Wisconsin Department of Transportation, will prepare a Draft Environmental Impact Statement (EIS) on a proposal to study the long term safety, operational and capacity improvements on an approximately 40 mile (65 kilometer) section of USH 8 between the junction of STH 35 north and USH 53, in Polk and Barron Counties, Wisconsin. The EIS will evaluate the social, economic and environmental impacts of alternatives, including: (1) No Build—this alternative assumes the continue use of existing facilities with the maintenance necessary to ensure their use, (2) Improvements Within the Existing Highway Corridor—this alternative would evaluate improve traffic handling capabilities and safety by either geometric improvements and passing lanes or a four-lane facility on the existing corridor, and (3) Improvements on New Location—this alternative would provide corridor alignments that bypass the communities of Range, Turtle Lake, Poskin, Almena and Barron as well as interchanges for bypasses of Turtle Lake and Barron. All alternatives will examine improvements to pedestrian, bicycle, and snowmobile facilities.

Information describing the proposed action and soliciting comments will be sent to appropriate Federal, State and local agencies and to private agencies, organizations, and citizens who have expressed, or are known to have an interest in this proposal. A project advisory committee comprised of Federal and State agencies, local officials, environmental, and other community interests will be established to provide input during development and refinement of alternatives and impact evaluation activities. Public meeting and other forms will be held to solicit comments from citizens and interest groups. In addition, a public hearing will be held. Public notice will be given of the time and place of the meeting and hearing. The draft EIS will be available for public and agency review and comment prior to the public hearing. Agencies having an interest in or jurisdiction regarding the proposed action will be contacted through interagency coordination meetings and mailing.

To ensure that the full range of issues related to this proposed action are addressed, and all substantive issues are identified, comments and suggestions are invited from all interested parties. Comments or questions concerning this proposed action and the EIS should be directed to FHWA or the Wisconsin Department of Transportation at the address provided in the caption FOR FURTHER INFORMATION CONTACT.

(Catalog of Federal Domestic Assistance Program Number 20.205, Highway Planning and Construction. The regulations implementing Executive Order 12372 regarding intergovernmental consultation on Federal programs and activities apply to this program).

Authority: 23 U.S.C. 315; 49 CFR 1.48

Issued on: August 21, 2001.
Peter M. Garcia,
Field Operations Engineer, Federal Highway Administration, Madison, Wisconsin.

[FR Doc. 01-21944 Filed 8-29-01; 8:45 am]

BILLING CODE 4910-22-M